DEPARTMENT OF HOMELAND SECURITY

Coast Guard

[Docket No. USCG-2020-0278]

Port Access Route Study: Northern New York Bight

AGENCY: Coast Guard, DHS.

ACTION: Notice of study and public meetings; request for comments.

SUMMARY: The Coast Guard is conducting a Port Access Route Study (PARS) to evaluate the adequacy of existing vessel routing measures and determine whether additional vessel routing measures are necessary for port approaches to New York and New Jersey and international and domestic transit areas in the First District area of responsibility. The Northern New York Bight PARS (NNYBPARS) will consider whether existing or additional routing measures are necessary to improve navigation safety due to factors such as planned or potential offshore development, current port capabilities and planned improvements, increased vessel traffic, existing and potential anchorage areas, changing vessel traffic patterns, effects of weather, or navigational difficulty. Vessel routing measures, which include traffic separation schemes, two-way routes, recommended tracks, deep-water routes, precautionary areas, and areas to be avoided, are implemented to reduce the risk of marine casualties. The recommendations of the study may subsequently be implemented through rulemakings or in accordance with international agreements.

DATES: Comments and related material must be received on or before August 28, 2020. Although the Coast Guard prefers and highly encourages all comments and related material be submitted directly to the electronic docket, two virtual public meetings will be held via webinar and teleconference to provide an opportunity for oral comments about the NNYBPARS on Thursday, July 30, 2020, beginning at 9 a.m. EST, and on Tuesday, August 11, 2020, beginning at 6 p.m. EST. All comments and related material submitted must be received by the Coast Guard on or before August 28, 2020. Commenters should be aware that the electronic Federal Docket Management System will not accept comments after midnight Eastern Daylight Time on the last day of the comment period.

ADDRESSES: You may submit comments identified by docket number USCG-2020-0278 using the Federal eRulemaking Portal http://www.regulations.gov. See the “Public Participation and Request for Comments” portion of the SUPPLEMENTARY INFORMATION section for further instructions on submitting comments.

The virtual public meeting on Thursday, July 30, 2020, beginning at 9 a.m. EST, will be held via webinar and teleconference.

The virtual public meeting on Tuesday, August 11, 2020, beginning at 6 p.m. EST, will be held via webinar and teleconference.

Access information for these virtual public meetings will be posted at https://www.navcen.uscg.gov/?pageName=PARS by July 23, 2020.

FOR FURTHER INFORMATION CONTACT: If you have questions about this notice of study, call or email Mr. Craig Lapiejko, First Coast Guard District (dpw), U.S. Coast Guard; telephone (617) 223-8351, email craig.d.lapiejko@uscg.mil.

SUPPLEMENTARY INFORMATION:

I. Table of Abbreviations

ACPARS Atlantic Coast Port Access Route Study

AIS Automatic Identification System

COMDTINST Commandant Instruction

DHS Department of Homeland Security

EEZ Exclusive Economic Zone

IMO International Maritime Organization

MTS Marine Transportation System

NAD83 North American Datum of 1983

NNYB Northern New York Bight

PARS Port Access Route Study

PWSA Ports and Waterways Safety Act

TSS Traffic Separation Scheme

USCG United States Coast Guard

II. Background and Purpose

A. Requirements for Port Access Route Studies: Under Section 70003 of Title 46 of the United States Code, the Commandant of the U.S. Coast Guard may designate necessary fairways and traffic separation schemes (TSSs) to provide safe access routes for vessels proceeding to and from U.S. ports. The designation of fairways and TSSs recognizes the paramount right of navigation over all other uses in the designated areas.

Before establishing or adjusting fairways or TSSs, the Coast Guard must conduct a PARS, i.e., a study of potential traffic density and the need for safe access routes for vessels. Through the study process, the Coast Guard must coordinate with federal, state, and foreign state agencies (where appropriate) and consider the views of maritime community representatives, environmental groups, and other interested stakeholders. The primary purpose of this coordination is, to the extent practicable, to reconcile the need for safe access routes with other reasonable waterway uses such as anchorages, construction, and operation of renewable energy facilities, marine sanctuary operations, commercial and recreational activities, and other uses.

In addition to aiding the Coast Guard in establishing new or adjusting fairways or TSSs, this PARS may recommend establishing or amending other vessel routing measures. Examples of other routing measures include two-way routes, recommended tracks, deep-water routes (for the benefit primarily of ships whose ability to maneuver is constrained by their draft), precautionary areas (where ships must navigate with particular caution), and areas to be avoided (for reasons of exceptional danger or especially sensitive ecological and environmental factors).

B. Previous Port Access Route Studies within this Study Area: The original precautionary area and TSSs within this study area were first established in May, 1967, and were approved by the International Maritime Organization (IMO).

In 1987 the Coast Guard conducted a PARS prior to establishing two parallel shipping safety fairways off New York entitled “Ambrose to Nantucket Safety Fairway” and “Nantucket to Ambrose Safety Fairway” and published the final results in the Federal Register (52 FR 33589; September 4, 1987).

In 2016, the Coast Guard published a notice of its Atlantic Coast Port Access Route Study (ACPARS) in the Federal Register (81 FR 13307; March 14, 2016) and announced the study report as final in the Federal Register (82 FR 16510; April 5, 2017). The ACPARS analyzed the Atlantic Coast waters seaward of existing port approaches within the U.S. Exclusive Economic Zone (EEZ). This multiyear study began in 2011, included public participation, and identified the navigation routes customarily followed by ships engaged in commerce between international and domestic U.S. ports. The study is available at https://navcen.uscg.gov/?pageName=PARSReports. Data and information from stakeholders, including Automatic Identification System (AIS) data from vessel traffic, were used to identify and verify deep draft and coastwise navigation routes that are typically followed by ships engaged in commerce between international and domestic U.S ports.

C. Need for a New Port Access Route Study: In 2019, the Coast Guard announced a new study of routes used by ships to access ports on the Atlantic Coast of the United States in the Federal Register (84 FR 9541; March 15, 2019). This new study supplements and builds upon the ACPARS by conducting a series of PARS to examine ports along the Atlantic Coast that are economically significant or support military or critical national defense operations and related international entry and departure transit areas that are integral to the safe and efficient and unimpeded flow of commerce to/from major international shipping lanes. The NNYBPARS is just one of these several new studies being conducted.

III. Information Requested

The New York Bight encompasses a very large area starting along the coasts of New York and New Jersey, from Montauk Point, NY, to Cape May, NJ, and then offshore to the outer edge of the Continental Shelf. The purpose of this notice is to announce the commencement of this PARS to examine the First District's portion of the New York Bight which includes the port approaches to New York and New Jersey and the international and domestic entry and departure transit areas in conjunction with the implementation of recommendations of the ACPARS, and to solicit public comments. Similar to the ACPARS, this PARS will focus on and use AIS data and information from stakeholders to identify and verify customary navigation routes as well as routes between port approaches and international entry and departure transit areas. The Coast Guard encourages participation in the study process by submitting comments in response to this notice. Comments should address impacts to navigation within the study area resulting from factors such as: Planned or potential offshore development, current port capabilities and planned improvements, increased vessel traffic, changing vessel traffic patterns, effects of weather, potential conflicts or disruptions in uncharted or informal anchorage areas, or navigational difficulties or concerns in general.

IV. Public Participation and Request for Comments

We encourage you to participate in this study by submitting comments and related materials. All comments received will be posted without change to https://www.regulations.gov and will include any personal information you have provided.

A. Submitting Comments: If you submit comments to the online public docket, please include the docket number for this notice (USCG-2020-0278), indicate the specific section of this document to which each comment applies, and provide a reason for each suggestion or recommendation. We accept anonymous comments.

To submit your comment online, go to https://www.regulations.gov, and insert “USCG-2020-0278” in the “search box.” Click “Search” and then click “Comment Now.” We will consider all comments and material received during the comment period.

B. Public Meetings: We plan to hold two virtual public meetings to receive oral comments on this notice. Again, as stated earlier, the Coast Guard prefers and highly encourages all comments and related material be submitted directly to the online public docket, but two virtual public meetings will be held via webinar and teleconference to provide an opportunity for oral comments about the NNYBPARS. If you want to provide a written version of your oral comments made at the virtual public meeting, you may submit them directly to Mr. Craig Lapiejko. These comments will be added to our online public docket. We recommend that you include your name and a mailing address, an email address, or a telephone number in the body of your document so that we can contact you if we have questions regarding your submission. Attendance at the virtual public meeting is not required. We will provide a written summary of the oral comments received and will place that summary in the online public docket.

The first virtual public meeting on Thursday, July 30, 2020, beginning at 9 a.m. EST, will be held via webinar and teleconference.

Access information for this virtual public meetings will be posted at https://www.navcen.uscg.gov/?pageName=PARS by July 23, 2020.

The second virtual public meeting on Tuesday, August 11, 2020, beginning 6 p.m. EST, will be held via webinar and teleconference.

Access information for this virtual public meetings will be posted at https://www.navcen.uscg.gov/?pageName=PARS by July 23, 2020.

C. Viewing Comments and Documents: To view the comments and documents mentioned in this preamble as being available in the online public docket, go to http://www.regulations.gov, click on the “read comments” box, which will then become highlighted in blue. In the “Keyword” box insert “USCG-2020-02782” and click “Search.” Click the “Open Docket Folder” in the “Actions” column.

D. Privacy Act: We accept anonymous comments. All comments received will be posted without change to https://www.regulations.gov and will include any personal information you have provided. For more about privacy and submissions in response to this document, see DHS's Correspondence System of Records notice (84 FR 48645, September 26, 2018). Documents mentioned in this notice as being available in the docket, and all public comments, will be in our online docket at https://www.regulations.gov and can be viewed by following that website's instructions. Additionally, if you go to the online docket and sign up for email alerts, you will be notified when comments are posted or a final rule is published.

V. Northern New York Bight PARS: Timeline, Study Area, and Process

The First Coast Guard District, Coast Guard Sector New York, and Coast Guard Sector Long Island Sound will conduct this PARS. The study will commence upon publication of this notice and may take 12 months or more to complete.

The study area is described as an area bounded by a line connecting the following geographic positions:

40 18′00.0″ N 074 00′00.0″ W

38 57′00.0″ N 071 16′00.0″ W

39 47′24.0″ N 069 40′01.2″ W

41 07′12.0″ N 071 34′33.6″ W

41 04′15.6″ N 071 51′25.2″ W

thence along the coast line back to the origin. All geographic points are based on North American Datum of 1983 (NAD 83).

This area extends approximately 150 nautical miles seaward and covers approximately 25,000 square nautical miles including the offshore area of New Jersey and New York used by private, commercial, and public vessels transiting to and from these ports. An illustration showing the study area is below with additional illustrations available in the online public docket where indicated under ADDRESSES.

This PARS will identify and analyze the customary navigation routes between the port approaches of New York and New Jersey and the international and domestic transit areas and connecting them to the potential fairways identified in the ACPARS final report.

Analyses will be conducted in accordance with COMDTINST 16003.2B, Marine Planning to Operate and Maintain the Marine Transportation System (MTS) and Implement National Policy. Instruction is available at https://media.defense.gov/2019/Jul/10/2002155400/-1/-1/0/CI_16003_2B.PDF.

We will publish the results of the PARS in the Federal Register. It is possible that the study may validate the status quo (no additional fairways or routing measures) and conclude that no changes are necessary. It is also possible that the study may recommend one or more changes to address navigational safety and the efficiency of vessel traffic management. The recommendations may lead to future rulemakings or international agreements.

This notice is published under the authority of 5 U.S.C. 552(a).

Dated: June 23, 2020.
T.G. Allan Jr.,
Rear Admiral, U.S. Coast Guard, Commander, First Coast Guard District.

[FR Doc. 2020-13901 Filed 6-26-20; 8:45 am]

BILLING CODE 9110-04-P